DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of April 1, 2019 through May 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,317 | Harden Furniture LLC | McConnellsville, NY | November 7, 2017.
94,428 | Nestle Waters North America, Inc., Red Boiling Springs Factory, Express Employment Professionals, etc | Red Boiling Springs, TN | December 21, 2017.
94,491 | Prince Manufacturing Corporation | Sioux City, IA | January 25, 2018.
94,560 | Copland Fabrics, Inc., Hire Alternatives | Burlington, NC | February 22, 2018.
94,626 | Nordson Xaloy, Nordson Corporation, Bright Services, Manpower, Aerotek | Pulaski, VA | April 13, 2019.
94,720 | Savox Communications Inc., Express Services Inc | Lincoln, NE | April 9, 2018.

The following certifications have been issued. The requirements of Section 222(a)(2)(B) (Shift in Production or Services to a Foreign Country Path or Acquisition of Articles or Services from a Foreign Country Path) of the Trade Act have been met.

TA-W No. | Subject firm | Location | Impact date
94,126 | The Anthem Companies Inc., IT Application and Development, Commercial Claims, etc | Norfolk, VA | September 13, 2017.
94,337 | Integrated Medical Professionals PLLC, Prestige Employee Administrators, Inc | Melville, NY | November 14, 2017.
94,402 | Globe Metallurgical, Inc., Ferroglobe, Inc., Kelly Services | Selma, AL | December 13, 2017.
94,475 | American Fasteners Co., Ltd., Baron HR, HROI | Jurupa Valley, CA | January 22, 2018.
94,488 | IBM, Inc., Global Technology Services Division, CDI Corporation/Artech | Endicott, NY | January 25, 2018.
94,499 | Dignity Health dba Dominican Hospital, Medical Transcriptionists, Patient Services Technicians HIM | Santa Cruz, CA | January 31, 2018.
94,510 | ECi Macola/MAX, LLC, Development and Product Management, Manufacturing, Eclipse Midco, etc | San Mateo, CA | February 4, 2018.
94,518 | Sigma Design, Inc., HP Inc., Aerotek Inc | Vancouver, WA | February 4, 2018.
94,521 | Xerox Corporation, Managed Document Services, Mindex Technologies Inc., Modis | Webster, NY | January 23, 2018.
94,523 | Dole Food Company, Dole Business Services, Information Technology Department | Westlake Village, CA | February 7, 2018.
94,523A | Dole Food Company, Dole Business Services, Treasury Department | Westlake Village, CA | February 7, 2018.
94,523B | Dole Food Company, Dole Business Services, Finance and Accounting Department | Westlake Village, CA | February 7, 2018.
94,526 | ABB Inc., Transportation Management Center, ABB Group, ABB Ltd., Pontoon Solutions | Memphis, TN | February 8, 2018.
94,528 | HSBC Technology and Services, USA (HTSU), Cybersecurity Division, HSBC North American Holdings, Inc | Arlington Heights, IL | February 8, 2018.
94,531 | Park Ohio Products, Inc., Minute Men Staffing Services, Resource MFG, Champion Flexible Talent | Cleveland, OH | February 8, 2018.
94,532 | Adams Publishing Group, ECM Publishers, Inc. Division, Graphics Production Department | Coon Rapids, MN | February 11, 2018.
94,533 | Stream, NY, Digital Assistance Center, Concentrix CVG Corporation | Watertown, NY | February 11, 2018.
94,540 | Schneider Electric, Volt | Peru, IN | June 23, 2019.
94,548 | Omega Engineering, Inc., Electronics Division, Randstad US, Andek Staffing Services, Aerotek, etc | Santa Ana, CA | February 12, 2018.
94,549 | ArcelorMittal Tailored Blanks Americas Corporation, ArcelorMittal Tailored Blanks Luxembourg Holding Company | Pioneer, OH | February 19, 2018.
94,551 | Philips Respironics, Philips North America, Randstad | Kennesaw, GA | February 19, 2018.
94,565 | Safran Electronics & Defense, Avionics USA, LLC, Mechanical Group (TCQ Project), Safran USA, Safran S.A., Aerotek, etc | Grand Prairie, TX | February 25, 2018.
94,566 | Ernst & Young LLP, Unemployment Insurance Claims | Dallas, TX | April 14, 2019.
94,570 | Richmond Assembly Plant, Matthews Aurora Funeral Solutions, The York Group, Milso Industries, etc | Richmond, IN | February 28, 2018.
94,584 | Wireless Seismic, Inc., Martin Company, TEK Systems, Aerotek, Optimal Designs Inc, etc | Sugar Land, TX | January 26, 2018.
94,588 | Husqvarna Consumer Outdoor Products N.A., Inc | McRae, GA | March 4, 2018.
94,589 | STARTEK, Inc | Lynchburg, VA | March 4, 2018.
94,598 | Dart Industries Inc. (Tupperware Brands), Product Development, Tupperware Brands Corporation, CDI Corporation | Orlando, FL | March 6, 2018.
94,605 | Ingersoll Rand, Compression Technology Service Division, Leona Backus, Armand Deban, etc | Cheektowaga, NY | May 19, 2018.
94,607 | State Street Corporation | Hadley, MA | March 8, 2018.
94,609 | QBE Americas, Inc., QBE Holdings, Inc | Sun Prairie, WI | April 2, 2018.
94,614 | Airespring, Inc | Van Nuys, CA | March 13, 2018.
94,617 | Bose Corporation, Park Place Facility, etc | Framingham, MA | February 28, 2018.
94,617A | Bose Corporation, Global Development Engineering and Manufacturing, Randstad | San Diego, CA | February 28, 2018.
94,623 | Aptiv US Services General Partnership, Aptiv PLC, Barpellam, Accretive Solutions-Detroit, Acro Service, etc | Warren, OH | March 15, 2018.
94,628 | United Parcel Service, Inc., United Parcel Service of America, Adecco, American Cyber Systems, etc | Visalia, CA | March 14, 2018.
94,629 | Deluxe Media Inc., Deluxe Entertainment Services Group, Deluxe Shared Services, etc | Burbank, CA | March 15, 2018.
94,632 | Gigamedia Access Corporation, Quality Assurance Division | Herndon, VA | March 15, 2018.
94,633 | Masonite Corporation, Residential Division, Masonite International Corporation, Target CW | Denmark, SC | March 17, 2018.
94,643 | Netflix Customer Service, Learning & Development Department, Netflix, Inc | Los Gatos, CA | March 18, 2018.
94,645 | Sensata Technologies, Inc., Aerospace, PEAK Technical Staffing USA, Triad Systems International, etc | Thousand Oaks, CA | March 19, 2018.
94,647 | Stearns Lending, LLC, Wholesale/Non-Delegated Client Approval Team, Stearns Holdings, LLC | Santa Ana, CA | March 19, 2018.
94,653 | BioMedica ADI Inc., BioMedica Diagnostics Inc., Aerotek | Stamford, CT | March 20, 2018.
94,657 | Hanesbrands, Inc., Long-Fold Women's Hosiery | Clarksville, AR | March 25, 2018.
94,661 | Winchester Interconnect Corporation, ATPIV Technologies Limited Division, Winchester Electronics Corporation | Middlebury, CT | March 14, 2018.
94,663 | Assurant Inc., Assurant IT Help Desk, Inter Financial Inc., Tek Systems | Woodbury, MN | March 26, 2018.
94,664 | The Goodyear Tire & Rubber Company, Gadsden Facility, Diversified Maintenance, InnoSource Inc., Securitas, etc | Gadsden, AL | March 26, 2018.
94,666 | Tahari ASL | New York, NY | February 28, 2018.
94,673 | Liberty Mutual Insurance Company, Support Department, Liberty Mutual Group Inc | Allentown, PA | March 28, 2018.
94,677 | Dexcom Inc., Eastridge | Mesa, AZ | March 29, 2018.
94,688 | Fargo Assembly Company, Electrical Components International Inc., Kelly Services, Inc | Atchison, KS | April 3, 2018.
94,688A | Fargo Assembly Company, Electrical Components International Inc | Bethany, MO | April 3, 2018.
94,696 | Industrial Harness Company, Inc., Electrical Components International, Inc., Axiom Staffing Group, etc | Shippensburg, PA | April 4, 2018.
94,713 | Performance Direct, Inc., Performance Bicycle, AE Bicycle Liquidation, Advance Sports Enterprise | Sophia, WV | April 8, 2018.
94,721 | Agfa US Corp., Agfa Healthcare Corporation, Agfa Global | Greenville, SC | April 10, 2018.
94,725 | Hanesbrands, Inc., Mt. Airy Sock Facility | Mt. Airy, NC | April 10, 2018.
94,730 | Partners HealthCare Systems, Inc., Partners Personalized Medicine-Healthcare Innovation Platform (HIP), etc | Cambridge, MA | April 12, 2018.
94,733 | EaglePicher Technologies LLC, Medical and Medical Power Division, Express Employment, Penmac | Joplin, MO | April 15, 2018.
94,738 | Thermo Fisher Scientific Inc., Chromatography & Mass Spectroscopy, Acara Solutions, Adecco USA, etc | Bellefonte, PA | April 17, 2018.
94,740 | Associated Spring, a Business of Barnes Group Inc., Syracuse, New York, First Choice Staffing, Remedy Intelligent Staffing, etc | Syracuse, NY | April 18, 2018.
94,741 | Globarket Tire Recycling | Vista, CA | April 18, 2018.
94,746 | Concentrix CVG Customer Management Group Inc., Concentrix CVG Corporation | Charlotte, NC | April 22, 2018.
94,748 | The Bank of New York Mellon, Risk Credit Division, The Bank of New York Mellon Corporation | Pittsburgh, PA | April 23, 2018.
94,748A | The Bank of New York Mellon, Risk Credit Division, The Bank of New York Mellon Corporation | New York, NY | April 23, 2018.
94,753 | Deluxe Media Inc., Deluxe Entertainment Services Group, Deluxe Shared Services, etc | Burbank, CA | April 24, 2018.
94,755 | LEDVANCE LLC, OSRAM Sylvania, LEDVANCE Gmbh, Manpower, Wortman Controls, etc | Saint Mary's, PA | July 27, 2019.
94,755A | B & T Cleaning, Experis, and Beimel Transportation, LEDVANCE LLC, OSRAM Sylvania, Inc., LEDVANCE Gmbh | Saint Mary's, PA | April 25, 2018.
94,756 | Ethan Allen Operations, Inc., Ethan Allen Global, Inc | Passaic, NJ | April 25, 2018.
94,757 | Evolent Health, LLC, Evolent Health, Inc | Arlington, VA | April 25, 2018.
94,758 | Vertical Textiles, LLC | Miami, FL | April 25, 2018.
94,772 | Watlow Electric Manufacturing Company, Manpower, Express Employment Professionals | Columbia, MO | April 30, 2018.
94,774 | Ethan Allen Operations, Inc., Ethan Allen Global, Talent Force, Catawba Valley Staffing, Manpower | Old Fort, NC | April 25, 2018.
94,776 | Thomson Reuters, Contingent and Randstad Professional US, LLC, Randstad Sourceright | Rochester, NY | May 1, 2018.
94,784 | Monterey Mushrooms, Inc., Gourmet Division, Talentforce, Manpower | Bonne Terre, MO | May 3, 2018.
94,785 | Quad Graphics Printing II LLC, Quad Graphics Inc., Express Employment Professionals | Portland, OR | May 6, 2018.
94,788 | Honeywell International Inc., Safety & Productivity Solutions Division, Co-Tech | Galena, IL | May 6, 2018.
94,789 | Kohler Co., Cast Process Group, Kitchen & Bath Americas Division | Brownwood, TX | May 7, 2018.
94,792 | Cooper Standard, 308 Fedelon Trail | Goldsboro, NC | May 20, 2019.
94,792A | Cooper Standard, 280 Woodland Church Road | Goldsboro, NC | May 8, 2018.
94,794 | American Technical Ceramics Corp., New York Division, AVX Corp | Huntington Station, NY | May 10, 2019.

The following certifications have been issued. The requirements of Section 222(b) (supplier to a firm whose workers are certified eligible to apply for TAA) of the Trade Act have been met.

TA-W No. | Subject firm | Location | Impact date
94,520 | Pfizer Inc., Pfizer Global Supply, Atrium | Rouses Point, NY | April 14, 2019.
94,537 | Source Providers, Inc., Comprehensive Logistics, Inc., Callos Temporary Service | Austintown, OH | March 10, 2019.
94,537A | Office Team, Source Providers, Inc., Comprehensive Logistics, Inc | Austintown, OH | February 12, 2018.
94,630 | Emerald Polymer Additives, AOA Resin-D Division, Emerald Performance Materials, LLC | Akron, OH | March 11, 2018.
94,681 | Bosal Industries-Georgia, Inc., Bosal Nederland BV, TAAL Technologies | Ypsilanti, MI | March 22, 2018.

The following certifications have been issued. The requirements of Section 222(b) (downstream producer to a firm whose workers are certified eligible to apply for TAA) of the Trade Act have been met.

TA-W No. | Subject firm | Location | Impact date
94,410 | Arrow Electronics, Inc., Global Components Division | Porterville, CA | December 19, 2017.

The following certifications have been issued. The requirements of Section 222(e) (firms identified by the International Trade Commission) of the Trade Act have been met.

TA-W No. | Subject firm | Location | Impact date
94,545 | Granges Americas, Inc., Newport Facility, Granges AB | Newport, AR | April 14, 2019.
94,545A | Leased Workers from Staffmark Reporting to Granges Americas, Inc., Newport Facility, Granges AB | Newport, AR | February 5, 2018.
94,558 | Arconic Davenport Works, Global Rolled Products Division, Arconic Inc | Bettendorf, IA | February 5, 2018.
94,575 | Nucor Skyline Steel, LLC | Newton, IL | February 5, 2018.
94,586 | EVRAZ Oregon Steel Mill/EVRAZ Oregon Steel Tubular, EVRAZ NA, Inc | Portland, OR | February 5, 2018.
94,624 | The Goodyear Tire & Rubber Company, Danville Facility, Diversified Maintenance, etc | Danville, VA | February 19, 2018.
94,658 | Reynolds Hot Springs, Reynolds Consumer Products, Staffmark | Malvern, AR | February 5, 2018.
94,724 | Continental Tire the Americas, LLC, Continental AG, Acro Service Corporation | Mt. Vernon, IL | February 19, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
94,470 | Bushwacker, Inc., Lund International Holding Company (LIHC) | Portland, OR
94,510B | ECi Software Solutions, Inc., M1 Manufacturing “Support & Professional Services, Manufacturing Division | Pomona, CA
94,569 | Atlas Tube, Zekelman Industries | Chicago, IL
94,599 | Alliance Rubber Company | Salinas, CA

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,448 | General Motors Company, Baltimore Operations Allison Transmissions, Allegis, PSMI, JLL, etc | White Marsh, MD
94,456 | Buffalo Weaver, Inc., LaMont Limited, QPS Employment Group | Waterloo, IA
94,506 | Transamerica Life Insurance Company, Aerotek, Syntel, Inc., Teksystems, Orasi/Quialitest, CSC, Randstad | Little Rock, AR
94,536 | CSC Holdings, LLC, Human Resources-Talent Acquisitions, Altice USA, Inc | Bethpage, NY

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,398 | Mondi Bags USA, Arcadia Plant, Mondi Bags USA | Arcadia, LA
94,406 | ZF Chassis Systems Chicago, LLC, ZF North America, Staff Source, Surge, Express Employment, ICR, DSJ, etc | Chicago, IL
94,408 | Smart Apparel (US), Inc., ADP TotalSource | Frisco, TX
94,424 | Custom Wood Products LLC | Roanoke, VA
94,464 | N.Y.C. Motorcycles Inc., Harley-Davidson of New York | Long Island City, NY
94,510A | ECi Macola/MAX, LLC, Sales and Customer Support, Manufacturing, Eclipse Midco (Delaware), etc | San Mateo, CA
94,539 | Jeld-Wen, Yakima Division | Yakima, WA
94,559 | AT&T Technology Operations (ATO), Converged Access and Device Technology Group | Mission, KS
94,559A | AT&T Technology Operations (ATO), Converged Access and Device Technology Group | Wichita, KS
94,576 | Optum Technology, Solution Engineering & Delivery-Customer Relationship Management Group, etc | Eden Prairie, MN
94,711 | Helmut Lang New York LLC, Patternmakers and Sewers, Fast Retailing USA, Inc | New York, NY
94,726 | Marshfield Clinic Health System, Inc., Transcription Services, MModal Services, Limited | Marshfield, WI
94,732 | Dimension Data North America, Inc., Managed Services Global Services Center, Engineering Workers Division, etc | Santa Clara, CA
94,744 | Optimas OE Solutions | Commerce, CA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,512 | Maxim Integrated Products, Inc., I.T. Department, Final Phase Systems, Systema USA Corporation, Compucom | Beaverton, OR
94,562 | Harsco Rail, Harsco Corporation, Manpower | Ludington, MI

The following determinations terminating investigations were issued in cases where the petition regarding the investigation has been deemed invalid.

TA-W No. | Subject firm | Location | Impact date
94,568 | Xerox Corporation, Centralized Business Services, Tables Organization, etc | Webster, NY

The following determinations terminating investigations were issued because the worker group on whose behalf the petition was filed is covered under an existing certification.

TA-W No. | Subject firm | Location | Impact date
94,489 | Loud Audio, LLC | Auburn, WA
94,604 | Bear Island Paper WB LLC | Ashland, VA
94,622 | Besi North America, Inc., Micron Technology, Inc | Boise, ID
94,736 | Construction Equipment Company | Sheridan, OR
94,747 | Xerox Corporation, Centralized Business Services, Tables Organization, etc | Webster, NY
94,749 | Deluxe Digital Distribution Inc. dba Deluxe on Demand, Deluxe Entertainment Services Group Inc., Deluxe Shared Services Inc | Burbank, CA

The following determinations terminating investigations were issued because the petitioning group of workers is covered by an earlier petition that is the subject of an ongoing investigation for which a determination has not yet been issued.

TA-W No. | Subject firm | Location | Impact date
94,573 | RCO Engineering, GM Technical Center | Warren, MI
94,679 | Wells Fargo Vendor Financial LLC | Macon, GA
94,680 | Wells Fargo Vendor Financial Services | Macon, GA
94,723 | Cardone Industries, Inc., Tridonex | Philadelphia, PA

I hereby certify that the aforementioned determinations were issued during the period of April 1, 2019 through May 31, 2019. These determinations are available on the Department's website https://www.doleta.gov/tradeact/petitioners/taa_search_form.cfm under the searchable listing determinations or by calling the Office of Trade Adjustment Assistance toll free at 888-365-6822.

Signed at Washington, DC, this 11th day of June 2019.
Hope D. Kinglock,
Certifying Officer, Office of Trade Adjustment Assistance.

[FR Doc. 2019-14186 Filed 7-2-19; 8:45 am]

BILLING CODE 4510-FN-P